CHEMICAL SAFETY AND HAZARD INVESTIGATION BOARD

Sunshine Act Meeting

Time and Date: Thursday, July 15, 2004, at 10 a.m. EDT.

Place: General Services Administration Auditorium, 18th and F Streets, NW., Washington, DC 20006.

Status: Open to the public.

Matters to be Considered: The Chemical Safety and Hazard Investigation Board (CSB) is convening this public meeting in connection with its investigation of an explosion and fire that occurred in March 2004 at a Huntsman facility in Port Neches, Texas and, separately, its examination of the hazards associated with sodium hydrosulfide.

At this meeting CSB staff will present to the Board a safety bulletin based on the investigation of the Huntsman incident. The key issue examined in the bulletin is the removal of hazardous liquids in piping systems. The bulletin briefly explains the facts of the Huntsman incident, describes the incident causes, and reviews lessons learned.

CSB staff will also present to the Board a safety bulletin on the hazards associated with sodium hydrosulfide (NaHS), a chemical used in a variety of industries, including the leather tanning and pulp and paper industries. NaHS can cause severe burns and has a propensity to produce toxic hydrogen sulfide gas, which has resulted in a number of worker fatalities. The bulletin is intended to increase awareness of the hazards of NaHS and to outline safety practices to minimize the potential for harm to workers and the public. The bulletin also includes brief case studies of selected incidents involving NaHS.

After the staff presentations the Board will allow time for public comment. Following the conclusion of the comment period, the Board will consider whether to vote to approve the two safety bulletins.

All staff presentations are preliminary and are intended solely to allow the Board to consider in a public forum the issues and factors involved in the cases. Factual analyses, conclusions, or findings contained in the staff presentations should not be considered final. Only after the Board has considered the staff presentations and approved the staff reports will the safety bulletins be final Board products.

The meeting will also include a brief presentation on activity in the CSB recommendations program.

This meeting will be open to the public. Please notify CSB if a translator or interpreter is needed, at least five (5) business days prior to the meeting.

Individuals attending this meeting should plan to arrive 20 to 30 minutes before the scheduled start time in order to be processed through the building's security screening.

FOR FURTHER INFORMATION CONTACT: Daniel Horowitz, (202) 261-7600.

Dated: June 30, 2004.
Christopher W. Warner,
General Counsel.

[FR Doc. 04-15287 Filed 6-30-04; 4:38 pm]

BILLING CODE 6350-01-P